SMALL BUSINESS ADMINISTRATION

[Declaration of Disaster #P030]

Federated States of Micronesia (Amendment #1)

In accordance with a notice received from the Department of Homeland Security—Federal Emergency Management Agency, effective April 14, 2004, the above numbered declaration is hereby amended to establish the incidence period as beginning on April 8, 2004, and continuing through April 14, 2004.

All other information remains the same, i.e., the deadline for filing applications for physical damage is June 9, 2004.

(Catalog of Federal Domestic Assistance Program Nos. 59008)

Dated: April 28, 2004.
S. George Camp,
Acting Associate Administrator for Disaster Assistance.

[FR Doc. E4-1018 Filed 5-3-04; 8:45 am]

BILLING CODE 8025-01-P